DEPARTMENT OF HEALTH AND HUMAN SERVICES

Centers for Disease Control and Prevention

[Program Announcement 02101]

Support for Epidemiology, Mathematical Modeling, and Tools for Monitoring the Impact of the Local Response to the HIV/AIDS Epidemic in Zimbabwe; Notice of Availability of Funds

A. Purpose

The Centers for Disease Control and Prevention (CDC) announces the availability of fiscal year (FY) 2002 funds for a Cooperative Agreement program for Support for Epidemiology, Mathematical Modeling, and Tools for Monitoring the Impact of the Local Response to the Human Immunodeficiency Virus (HIV/AIDS) Epidemic in Zimbabwe.

The purpose of the program is to assist the CDC to provide support to:

The Zimbabwe Ministry of Health and Child Welfare (MOHCW) in its mission of conducting epidemiologic studies of HIV/AIDS at a population level in Zimbabwe and conducting mathematical modeling studies of HIV infection.

The National AIDS Council (NAC) in its mission of generating tools and training local District AIDS Action Committees to help monitor the local response to the epidemic of HIV/AIDS.

Measurable outcomes of the program will be in alignment with one or more of the following performance goals for the Global AIDS Program (GAP). Working with other countries, USAID, international, and U.S. government agencies, reduce the number of new HIV infections among 15 to 24 year olds in sub-Saharan Africa from an estimated two million by 2005.

B. Authority and Catalog of Federal Domestic Assistance Number

This program is authorized under section 307 of the Public Health Service Act, (42 U.S.C. section 2421), as amended. The Catalog of Federal Domestic Assistance number is 93.941.

C. Eligible Applicants

Applications may be submitted by public and private nonprofit organizations and, universities, colleges, research institutions, hospitals, other public and private nonprofit organizations worldwide, regional or technical organizations involved in health and development in Africa or globally, or any development or research organization worldwide. Consideration will be given to those applicants than have demonstrated their ability to work successfully in Zimbabwe and/or elsewhere in the Southern Africa Development Community (SADC).

Zimbabwe is committed to demonstrating and documenting a successful response to HIV/AIDS within the next five years. CDC's Global AIDS Program Zimbabwe wishes to recruit partners for the highest possible technical performance in this effort without regard to nationality or any other geographic, political.

D. Availability of Funds

Approximately $150,000 is available in FY 2002 to fund one to two awards. It is expected that the award(s) will begin on or about August 15, 2002, and will be made for a 12-month budget period within a project period of up to three years. Funding estimates may change.

Continuation award(s) within an approved project period will be made on the basis of satisfactory progress as evidenced by required reports and the availability of funds.

Direct Assistance

Equipment or supplies may be requested in the form of direct assistance, in lieu of a portion of financial assistance, if the applicant deems that it is cost efficient for achieving the CDC mission of supporting the expanded response to HIV/AIDS in Zimbabwe. At the end of the cooperative agreement, and in accordance with the standards outlined in 45 CFR 74.34, any such equipment should become property of one of the permanent, indigenous institutions of public health of Zimbabwe (for example, the MOHCW, NAC, University of Zimbabwe, School of Medicine or another relevant organization).

Use of Funds

The purchase of antiretroviral, reagents, and laboratory equipment for antiretroviral treatment projects requires pre-approval from the Global AIDS Program Headquarters.

Applicants may contract with other organizations under this cooperative agreement, however, applicants must perform a substantial portion of the activities, including program management and operations and delivery of prevention services for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in United States dollars. Once an award is made, the Department of Health and Human Services (DHHS) will not compensate foreign grantees for currency exchange fluctuations through the issuance of supplemental awards.

No funds appropriated under this act shall be used to carry out any program of distributing sterile needles or syringes for the hypodermic injection of any illegal drug.

Funds should be used in a complementary fashion to support two overriding CDC objectives: (1) Accomplishing high priority work identified by the CDC, NAC, MOHCW, and other central institutions of the national response to HIV/AIDS, especially those elements for which the CDC has been requested to support efforts and initiatives of the MOHCW and NAC; and (2) building capacity for long-term ability to respond to HIV/AIDS in Zimbabwe.

1. Funding Preferences

Characteristics of a preferred cooperative agreement partner include:

a. Expert knowledge of HIV epidemiology in Sub Saharan Africa and in Zimbabwe.

b. Expertise in mathematical modeling of infectious diseases, especially HIV/AIDS.

c. Understanding of the local response to HIV/AIDS in Zimbabwe, including the roles and functions of the MOHCW, the NAC, and District AIDS Action Committees; and expertise in monitoring of responses to HIV/AIDS, including developing appropriate tools.

d. Capacity to contribute substantively to knowledge of surveillance options for HIV/AIDS, including antenatal surveillance and its relationship to population-based surveillance and surveys.

e. In-depth knowledge of Zimbabwe, including knowledge of the relationship between national level indicators of HIV epidemic status and local (especially rural) epidemiology of HIV infection.

f. Demonstrated capacity and cultural competence to function effectively in Zimbabwe and other underdeveloped, sub-Saharan African countries.

g. Demonstrated commitment to and understanding of the processes required to build capacity in the areas of HIV epidemiology and mathematical modeling of epidemics in Zimbabwe and similar sub-Saharan African countries.

h. Appreciation for the District Planning Initiative of the Zimbabwe NAC, especially the structures at rural level, and capacity to help design and evaluate tools for monitoring the District (and lower) levels of response to the HIV/AIDS epidemic.

Matching funds is not a requirement for this program announcement.

E. Program Requirements

In conducting activities to achieve the purpose of this program, the recipient will be responsible for the activities under 1. Recipient Activities, and CDC will be responsible for the activities listed under 2. CDC Activities.

1. Recipient Activities

a. Train and support local staff of MOHCW, NAC, ZNFPC, CDC-Zimbabwe, University of Zimbabwe School of Medicine, and other groups in epidemiology, surveillance, mathematical modeling, and related subjects that relate current epidemiologic status and indicators to long-term implications in terms of morbidity, mortality, and demographic and economic impact.

b. Support and contribute to analyses of epidemiologic and surveillance data (such as, antenatal HIV surveillance and the Young Adult Survey (YAS+) as required to help contribute to a clear informed profile of HIV in Zimbabwe. Such analyses may be hosted either by CDC Zimbabwe or by the MOHCW or NAC of Zimbabwe, or potentially other partners.

c. Assist in developing a District level “epidemiologic” profile” of the AIDS epidemic for all 82 HIV Planning Districts in Zimbabwe, and a training program in communicating about and using the District Profile to aid in developing the District AIDS Action Plan.

d. Develop a dynamic mathematical model of the HIV/AIDS epidemic at a national level in Zimbabwe, incorporating available data on HIV prevalence, incidence, mortality, and related variables, that yields a predictive model of the future of the epidemic.

e. Develop or adapt a mathematical model for the epidemic appropriate for use at the District level in Zimbabwe and allow characterization of local conditions and assessment of the potential impact of different local interventions.

f. Conduct research in Zimbabwe, especially among rural populations, of behavioral and other interventions, including but not limited to: (1) The CDC Modeling and Reinforcement to Combat HIV (MARCH) strategy for behavior change; (2) the local response (district planning) initiative of the National AIDS Council of Zimbabwe, and other efforts to organize or stimulate a broader response to HIV/AIDS in Zimbabwe; and (3) development and evaluation of tools for monitoring the response to HIV/AIDS at the local level, especially at the district level.

g. Sponsor long-term training for Zimbabwean scientists, students, and public health officers in any or all of the above areas, to build national capacity for these areas of expertise.

2. CDC Activities

a. Contribute to developing priorities for approaches to and protocols for analyses, training, and research in epidemiology, demographic, and socioeconomic impact to be implemented by the recipient, and participate in such research.

b. When CDC scientists are co-investigators in research, assist in the development of research protocols for Institutional Review Board (IRB) review by all cooperating institutions participating in the research project. (The CDC IRB will review and approve the protocol initially and on at least an annual basis until the research project is completed).

c. Facilitate the integration of the recipient and the collaborative activities into other components of Zimbabwe's response to HIV/AIDS, including the monitoring, evaluation, and research agenda of the NAC, training in evaluation of public health interventions at the University of Zimbabwe, and so on.

F. Content

Letter of Intent (LOI)

A LOI is required for this program. The narrative should be no more than two double-spaced pages, printed on one side, with one-inch margins, and size unreduced fonts. Your letter of intent will be used to help plan the review process, and should include the following information:

1. Principal investigator and co-investigators

2. Institutions involved

3. 500 words (or less) abstract outlining “Central Concepts” to be developed more fully in the complete application

4. 300 words (or less) statement of qualifications and capacity to

5. Estimated amount of funds to be requested

Applications

Use the information in the Program Requirements, Other Requirements, and Evaluation Criteria sections to develop the application content. Your application will be evaluated on the criteria listed, so it is important to follow them in laying out your program plan. The narrative should consist of, at a minimum, a Plan, Objectives, Methods, Evaluation and Budget. It should be no more than 30 double spaced pages, printed on one side, with one-inch margins, and unreduced fonts.

G. Submission and Deadline

Letter of Intent (LOI)

On or before July 5, 2002, submit the LOI to the Grants Management Specialist identified in the “Where to Obtain Additional Information” section of this announcement.

Application

Submit the original and two copies of PHS 5161-1 (OMB Number 0920-0428). Forms are available in the application kit and at the following Internet address: www.cdc.gov/od/pgo/forminfo.htm

On or before August 5, 2002, submit the application to the Grants Management Specialist identified in the “Where to Obtain Additional Information” section of this announcement.

Deadline: Letters of Intent and final applications shall be considered as meeting the deadlines if they are either:

1. Received on or before the deadline dates.

2. Sent on or before the deadline dates and received in time for submission to the independent review group.

Late: Letters of Intent and Applications which do not meet the criteria in 1 or 2 above will be returned to the applicant.

H. Evaluation Criteria

Application

Applicants are required to provide Measures of Effectiveness that will demonstrate the accomplishment of the various identified objectives of the grant or cooperative agreement. Measures of Effectiveness must relate to the performance goal (or goals) as stated in section “A. Purpose” of this announcement. Measures must be objective and quantitative and must measure the intended outcome. These Measures of Effectiveness shall be submitted with the application and shall be an element of evaluation.

Each application will be evaluated individually against the following criteria by an independent review group appointed by CDC:

Understanding the Purpose of the Overall Plan the Application (10 points)

A cogent, brief summary of critical issues; succinct, coherent understanding of the purpose of the program announcement; and crosscutting, cost-effective approaches to responding to the announcement.

Objectives (15 points)

A translation of the general purposes of the program announcement into no more than four specific objectives, products, or outputs of the cooperative agreement that will be convincingly realized: two objectives within one to two years, and two objectives more linked to capacity building within three to four years on onset of funding.

Methods (15 points)

Enunciation of a methodology appropriate for accomplishing the Objectives outlined above.

Evaluation (15 points)

Brief explanation of how internal monitoring and evaluation of this program will contribute to strengthening and institutionalization of this program during the period of the grant.

Capacity (40 point)

Epidemiologic analysis and support (15 points)

Ability to participate in epidemiologic analysis of HIV infection rates, especially the relationships between HIV prevalence in pregnant women and in the general population.

Mathematical Modeling (15 points)

Ability to develop mathematical models that help interpret the underlying dynamics of the HIV epidemic in Zimbabwe, and contribute to characterizing interventions that reflect a cost effective response to the epidemic.

Tools for Monitoring the Local Response to HIV/AIDS (10 points)

Ability to develop appropriate tools to assist in monitoring the HIV/AIDS epidemic in a highly affected country with a generalized epidemic, especially including the organizational response at the district level (the District AIDS Action Committee), including monitoring the local response plus response to the epidemic at a local level.

Measures of Effectiveness (5 points)

Measures must be objective and quantitative and must measure the intended outcome.

Budget and Cost-effectiveness (Reviewed but not scored)

Creative and convincing approaches to resource utilization (financial, personnel, computing, etc.) to lead to a major impact of available resources.

Human Subjects (Review But Not Scored)

The extent to which the application adequately addresses the requirements listed in the 45 CFR 46 for the protection of human subjects.

I. Other Requirements

Technical Reporting Requirements

1. Progress report (annual); A brief, comprehensive narrative progress report should be submitted no later than 30 days after the end of the budget period. The progress report must include the following: (1) A comparison of the actual accomplishments to the objectives established; (2) the reasons for slippage if established objectives were not met; and (3) other pertinent information.

2. Financial status report, no more than 90 days after the end of each budget period.

3. Final financial report and performance report, no more than 90 days after the end of the project period.

Obtain annual audit of these CDC funds (program specific audit) by a U.S. based audit firm with international branches and current licensure/authority in country, and in accordance with International Accounting Standards or equivalent standard(s) approved in writing by CDC.

A fiscal Recipient Capability Assessment may be required with the potential awardee, prior or post award, in order to review their business management and fiscal capabilities regarding the handling of U.S. Federal funds.

Send all reports to the Grants Management Specialist identified in the “Where to Obtain Additional Information” section of this announcement.

The following additional requirements are applicable to this program. For a complete description of each, see Attachment I of the announcement.

AR-1 Human Subjects Requirements

AR-2 Requirements for Inclusion of Women and Racial and Ethnic Minorities in Research

AR-4 HIV/AIDS Confidentiality Provisions

AR-12 Lobbying Restrictions

AR-14 Accounting System Requirements

AR-22 Research Integrity

J. Where To Obtain Additional Information

This and other CDC announcements can be found on the CDC home page Internet address— http://www.cdc.gov Click on “Funding” then “Grants and Cooperative Agreements.”

To obtain business management technical assistance, contact:

Cynthia Collins, Grants Management Specialist, International & Territories Acquisition & Assistance Branch, Procurement & Grants Office, Centers for Disease Control and Prevention, 2920 Brandywine Road, Room 3000, Atlanta, GA 30341-4146, Telephone: (770) 488-2757, E-mail: ccollins@cdc.gov.

For program technical assistance, contact:

Michael St. Louis, MD, Director, Global AIDS Program (GAP), Zimbabwe Country Team, National Center for HIV, STD, and TB Prevention, Centers for Disease Control and Prevention (CDC), Zim-CDC AIDS Project Team, 38 Samora Machel Avenue, 2nd Floor, Harare, Zimbabwe, Telephone: 263 4 796040 796048, Fax: 263 4 796032, E-mail: stlouism@zimcdc.co.zw.

Dated: June 17, 2002.
Sandra R. Manning,
Director, Procurement and Grants Office, Centers for Disease Control and Prevention.

[FR Doc. 02-15659 Filed 6-20-02; 8:45 am]

BILLING CODE 4163-18-P